DEPARTMENT OF AGRICULTURE

Forest Service

Nicolet Resource Advisory Committee

AGENCY: Forest Service, USDA.

ACTION: Notice of meeting.

SUMMARY: The Nicolet Resource Advisory Committee will meet in Crandon, WI. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is to review and approve submitted project proposals.

DATES: The meeting will be held June 22, 2011 and will begin at 9:30 a.m.

ADDRESSES: The meeting will be held at Forest County Courthouse, County Boardroom, 200 East Madison Street, Crandon, WI. Written comments may be submitted as described under Supplementary Information.

All comments, including names and addresses when provided, are placed in the record and are available for public inspection and copying. The public may inspect comments received at Chequamegon-Nicolet National Forest, Laona Ranger District, 4978 Hwy 8 West, Laona, WI 54541. Please call ahead to 715-674-4481 to facilitate entry into the building to view comments.

FOR FURTHER INFORMATION CONTACT: Penny McLaughlin, RAC Coordinator, USDA, Chequamegon-Nicolet National Forest, Laona Ranger District, 4978 Hwy 8 W, Laona, WI 54541; 715-674-4481; e-mail: pmclaughlin@fs.fed.us.

Individuals who use telecommunication devices for the deaf (TDD) may call the Federal Information Relay Service (FIRS) at 1-800-877-8339 between 8 a.m. and 8 p.m., Eastern Standard Time, Monday through Friday. Requests for reasonable accommodation for access to the facility or proceedings may be made by contacting the person listed For Further Information Contact.

SUPPLEMENTARY INFORMATION: The following business will be conducted: 3rd Round Project Review and Approval. Anyone who would like to bring related matters to the attention of the committee may file written statements with the committee staff before or after the meeting. The agenda will include time for people to make oral statements of three minutes or less. Individuals wishing to make an oral statement should request in writing by June 1, 2011 to be scheduled on the agenda. Written comments and requests for time for oral comments must be sent to Chequamegon-Nicolet National Forest, Laona Ranger District, 4978 Hwy 8 W, Laona, WI 54541 or by e-mail to pmclaughlin@fs.fed.us or via facsimile to 715-674-2545.

Dated: April 13, 2011.
Paul I. V. Strong,
Forest Supervisor.

[FR Doc. 2011-9866 Filed 4-21-11; 8:45 am]

BILLING CODE 3410-11-P